INTERNATIONAL TRADE COMMISSION

[Investigation Nos. 731-TA-1082-1083 (Third Review)]

Chlorinated Isocyanurates From China and Spain; Revised Schedule for Full Five-Year Reviews

AGENCY: United States International Trade Commission.

ACTION: Notice.

DATES: September 6, 2022.

FOR FURTHER INFORMATION CONTACT: Keysha Martinez (202-205-2136), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these reviews may be viewed on the Commission's electronic docket (EDIS) at https://edis.usitc.gov.

SUPPLEMENTARY INFORMATION: On May 31, 2022, the Commission established a schedule for the conduct of the full five-year reviews (87 FR 34298). The Commission is revising its schedule.

The Commission's revised dates in the schedule are as follows: the Commission will make its final release of information on November 15, 2022; and final party comments are due on November 17, 2022 (final comments must not contain new factual information and must otherwise comply with section 207.68 of the Commission's rules).

For further information concerning this proceeding see the Commission's notice cited above and the Commission's Rules of Practice and Procedure, part 201, subparts A through E (19 CFR part 201), and part 207, subparts A, D, E, and F (19 CFR part 207).

Authority: These reviews are being conducted under authority of title VII of the Tariff Act of 1930; this notice is published pursuant to section 207.62 of the Commission's rules.

By order of the Commission.
Issued: September 6, 2022.
Katherine Hiner,
Acting Secretary to the Commission.

[FR Doc. 2022-19585 Filed 9-9-22; 8:45 am]

BILLING CODE 7020-02-P